DEPARTMENT OF JUSTICE

[OMB Number 1121-0064]

Agency Information Collection Activities; Proposed eCollection eComments Requested; Revision of a Currently Approved Collection; Annual Surveys of Probation and Parole

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until June 30, 2023.

FOR FURTHER INFORMATION CONTACT: If you have additional comments especially on the estimated public burden or associated response time, suggestions, or need a copy of the proposed information collection instrument with instructions or additional information, please contact Danielle Kaeble, Bureau of Justice Statistics, 810 Seventh Street NW, Washington, DC 20531 (email: Danielle.Kaeble@usdoj.gov; telephone: 202-598-1024).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: These establishment surveys provide BJS with the capacity to report annually on changes in the size and composition of the community corrections populations in the United States. The surveys also track key outcomes of offenders on probation or parole, such as completion of supervision terms and return to incarceration (or recidivism). Data are collected from the known universe of probation and parole supervising agencies, using central reporters wherever possible to minimize burden the public. The ASPP provides the only national level, regularly collected, data on the community corrections populations, and, as such, they inform this key stage of the criminal justice process. Revisions include an updated frame of probation agencies including additional misdemeanor only supervising agencies, as well changes to the probation survey forms (CJ-8 and CJ-8M) to collect information separately for felony and misdemeanant probation.

Overview of this information collection:

1. Type of Information Collection: Revision of a previously approved collection.

2. The Title of the Form/Collection: Annual Surveys of Probation and Parole.

3. The agency form number, if any, and the applicable component of the Department sponsoring the collection: The Annual Surveys of Probation and Parole (ASPP) contain three forms: CJ-7: Annual Parole Survey CJ-8: Annual Probation Survey and CJ-8M: Annual Probation Survey (Misdemeanant Supervision Only). The applicable component within the Department of Justice is the Bureau of Justice Statistics (BJS), in the Office of Justice Programs.

4. Affected public who will be asked or required to respond as well as the obligation: The affected public is Federal Government. The obligation to respond is voluntary.

5. An estimate of the total number of respondents and the amount of time estimated for an average respondent to respond: The ASPP will collect data from approximately 860 supervising agencies. The ASPP will collect data from approximately 860 supervising agencies. For each data collection cycle, we estimate an average burden of 96 minutes for the survey form CJ-7, 150 minutes for the updated survey form CJ-8, and 20 minutes for the updated survey form CJ-M. If needed, respondents to the CJ-7 and CJ-8 will be contacted by email or telephone to verify data quality issues. We estimate that data quality follow-up is needed for 70% of the CJ-7 and CJ-8 respondents (213) in each cycle and will run an average of 15 minutes for each respondent. We estimate a 10-minute follow-up for half (304) of the CJ-8M respondents.

6. An estimate of the total public burden (in hours) associated with the collection: There are approximately 3,015 hours, annual burden, associated with this information collection (1,005 per three years).

Total Burden Hours
Activity | Number of respondents | Frequency | Total annual responses | Time per response | Total annual burden (hours)
Survey | 860 | 1 | 860 | 3.506 | 3,015
Unduplicated Totals | 860 |  | 860 | 3,015 | 3,015

If additional information is required contact: John R. Carlson, Department Clearance Officer, United States Department of Justice, Justice Management Division, Policy and Planning Staff, Two Constitution Square, 145 N Street NE, 4W-218, Washington, DC 20530.

Dated: April 25, 2023.
John R. Carlson,
Department Clearance Officer for PRA, U.S. Department of Justice.

[FR Doc. 2023-09190 Filed 4-28-23; 8:45 am]

BILLING CODE 4410-18-P